DEPARTMENT OF HEALTH AND HUMAN SERVICES

National Institutes of Health

National Cancer Institute; Amended Notice of Meeting

Notice is hereby given of a change in the meeting of the National Cancer Institute Special Emphasis Panel, February 14, 2019, 04:00 p.m. to February 15, 2019, 02:30 p.m., Gaithersburg Marriott Washingtonian Center, 9751 Washingtonian Boulevard, Gaithersburg, MD, 20878 which was published in the Federal Register on November 27, 2018, 83 FR 60880.

This meeting notice is amended to reschedule the meeting to April 9, 2019 from 8:00 a.m. to 4:00 p.m. The meeting is closed to the public.

Dated: January 30, 2019.
Melanie J. Pantoja,
Program Analyst, Office of Federal Advisory Committee Policy.

[FR Doc. 2019-01010 Filed 2-4-19; 8:45 am]

BILLING CODE 4140-01-P